DEPARTMENT OF ENERGY

Federal Energy Regulatory Commission

[Docket No. RP00-445-005]

Alliance Pipeline L.P.; Notice of Compliance Filing

January 14, 2003.

Take notice that on January 8, 2003, Alliance Pipeline L.P. (Alliance) tendered for filing as part of its FERC Gas Tariff, Original Volume No. 1, Second Substitute Second Revised Sheet No. 12, proposed to be effective January 1, 2003.

Alliance states that it provides firm service under Rate Schedule FT-1 for its existing shippers, all of whom have agreed to pay negotiated rates. The shippers' negotiated rate agreements provide that changes in Alliance's costs will be reflected in its negotiated rates from time to time. Sheet Nos. 11-14 of Alliance's FERC Gas Tariff set forth the essential elements of its Rate Schedule FT-1 negotiated rate transactions. On November 27, 2002, Alliance filed proposed revised tariff sheets to reflect changes made to the rates charged under its negotiated rate agreements, as the results of changes in its costs.

Subsequently, Alliance states that it discovered it inadvertently had omitted a negotiated rate transaction with GCRL Marketing Ltd. (GCRL), on Second Revised Sheet No. 12. Accordingly, on December 17, 2002, Alliance filed Substitute Second Revised Sheet No. 12 to reflect the essential elements of the GCRL transaction. By letter order dated December 20, 2002, the Commission accepted the foregoing tariff sheets to be effective January 1, 2003, except for Second Revised Sheet No. 12 which was rejected as moot.

Alliance states while Substitute Second Revised Sheet No. 12 added the essential elements of the previously omitted GCRL transaction, it neglected to reflect the change made to the rate for GCRL pursuant to the negotiated rate agreement. Accordingly, Alliance states that it is filing Second Substitute Second Revised Sheet No. 12 to state the correct rate for the GCRL transaction.

Alliance states that copies of its filing have been mailed to all customers, state commissions, and other interested parties.

Any person desiring to protest said filing should file a protest with the Federal Energy Regulatory Commission, 888 First Street, NE., Washington, DC 20426, in accordance with Section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Dated: January 21, 2003.
Magalie R. Salas,
Secretary.

[FR Doc. 03-1265 Filed 1-17-03; 8:45 am]

BILLING CODE 6717-01-P